NUCLEAR REGULATORY COMMISSION

[Docket Nos. 50-275 and 50-323]

Pacific Gas and Electric Company Diablo Canyon Power Plant, Units 1 and 2; Notice of Partial Withdrawal of Application for Amendments to Facility Operating Licenses

The U.S. Nuclear Regulatory Commission (the Commission) has granted the request of Pacific Gas and Electric Company (the licensee) to partially withdraw the request of approval to adopt the extreme growth method, which was a part of its application dated March 18, 2004, and its supplements dated August 18 and 20, and September 17, 2004, for proposed amendments to Facility Operating License No. DPR-80 and Facility Operating License No. DPR-82 for the Diablo Canyon Power Plant, Unit Nos. 1 and 2, respectively, located in San Luis Obispo County, California.

The amendment request included (i) revisions to the Final Safety Analysis Report Update to incorporate the Nuclear Regulatory Commission approval of a permanently revised steam generator voltage-based repair criteria probability of prior cycle detection (POPCD) method; (ii) addition of a new reporting requirement to the DCPP Technical Specifications as TS 5.6.10.i; and (iii) approval to adopt the extreme growth method coincident with the above POPCD method. However, by letter dated September 17, 2004, the licensee requested that the extreme growth method be approved at a later time. Therefore, on October 28, 2004, the Commission issued Amendment Nos. 177 and 179, to Facility Operating License No. DPR-80 and Facility Operating License No. DPR-82 for the Diablo Canyon Power Plant, Unit Nos. 1 and 2, respectively, without reviewing the extreme growth method.

The Commission had previously issued a Notice of Consideration of Issuance of Amendments published in the Federal Register on June 22, 2004 (69 FR 34704), and a Notice of Issuance of Amendments published in the Federal Register on November 23, 2004 (69 FR 68190). However, by letter dated September 22, 2005, the licensee withdrew the remaining portion of the amendment request pertaining to the approval to adopt the extreme growth method. The licensee's application dated March 18, 2004, and its supplements dated August 18 and 20, and September 17, 2004, and withdrawal letter dated September 22, 2005, are available in the NRC's Agencywide Documents Access and Management System (ADAMS) under Accession Numbers ML040840449, ML042380475, ML042530054, ML042680323 and ML052660327, respectively.

For further details with respect to this action, see the application for amendment dated March 18, 2004, its supplements dated August 18 and 20, and September 17, 2004, and withdrawal letter dated September 22, 2005, which withdrew the request of approval to adopt the extreme growth method. Documents may be examined, and/or copied for a fee, at the NRC's Public Document Room (PDR), located at One White Flint North, 11555 Rockville Pike (first floor), Rockville, Maryland. Publicly available records will be accessible electronically from the ADAMS Public Electronic Reading Room on the internet at the NRC Web site, http://www.nrc.gov/reading-rm/adams/html. Persons who do not have access to ADAMS or who encounter problems in accessing the documents located in ADAMS, should contact the NRC PDR Reference staff by telephone at 1-800-397-4209, or (301) 415-4737 or by e-mail to pdr@nrc.gov.

Dated at Rockville, Maryland, this 26th day of September, 2005.
For the Nuclear Regulatory Commission.
Girija S. Shukla,
Project Manager, Section 2, Project Directorate IV, Division of Licensing Project Management, Office of Nuclear Reactor Regulation.

[FR Doc. E5-5387 Filed 9-30-05; 8:45 am]

BILLING CODE 7590-01-P